DEPARTMENT OF AGRICULTURE

Animal and Plant Health Inspection Service

[Docket No. APHIS-2015-0102]

Notice of Availability of an Evaluation of the Classical Swine Fever, Swine Vesicular Disease, African Swine Fever, Foot-and-Mouth Disease, and Rinderpest Status of Malta

AGENCY: Animal and Plant Health Inspection Service, USDA.

ACTION: Notice of availability.

SUMMARY: We are advising the public that we are proposing to recognize the Republic of Malta as being free of swine vesicular disease, African swine fever, foot-and-mouth disease, and rinderpest subject to conditions in the regulations governing the importation of certain animals and animal products into the United States. We are also proposing adding the Republic of Malta to the APHIS-defined European classical swine fever region that is subject to conditions described in the regulations. We are proposing these actions based on a risk evaluation we have prepared in connection with this action, which we are making available for review and comment.

DATES: We will consider all comments that we receive on or before July 12, 2016.

ADDRESSES: You may submit comments by either of the following methods:

• Federal eRulemaking Portal: Go to http://www.regulations.gov/#!docketDetail;D=APHIS-2015-0102.

• Postal Mail/Commercial Delivery: Send your comment to Docket No. APHIS-2015-0102, Regulatory Analysis and Development, PPD, APHIS, Station 3A-03.8, 4700 River Road Unit 118, Riverdale, MD 20737-1238.

Supporting documents and any comments we receive on this docket may be viewed at http://www.regulations.gov/#!docketDetail;D=APHIS-2015-0102 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Chip Wells, Senior Staff Veterinarian, Regionalization Evaluation Services, National Import Export Services, VS, APHIS, USDA, 4700 River Road Unit 38, Riverdale, MD 20737-1231; Chip.J.Wells@aphis.usda.gov; (301) 851-3317.

SUPPLEMENTARY INFORMATION: The regulations in 9 CFR part 94 (referred to below as the regulations) govern the importation of certain animals and animal products into the United States to prevent the introduction of various animal diseases, including African swine fever (ASF), classical swine fever (CSF), foot-and-mouth disease (FMD), swine vesicular disease (SVD), and rinderpest.¹ The regulations prohibit or restrict the importation of live ruminants and swine, and products from these animals, from regions where these diseases are considered to exist.

¹ The World Organization for Animal Health (OIE) recognizes rinderpest as having been globally eradicated, and recommends that countries not impose any rinderpest-related conditions on import or transit of livestock and livestock products. In addition, the OIE recently delisted SVD as a disease of concern for international trade. However, APHIS continues to regulate for rinderpest and SVD through its import regulations for animals and animal products.

Within part 94, § 94.1 contains requirements governing the importation of ruminants and swine from regions where rinderpest or FMD exists and the importation of the meat of any ruminants or swine from regions where rinderpest or FMD exists to prevent the introduction of either disease into the United States. We consider rinderpest and FMD to exist in all regions except those listed in accordance with paragraph (a) of that section as free of rinderpest and FMD.

Section 94.8 contains requirements governing the importation of pork and pork products from regions where ASF exists or is reasonably believed to exist.

Section 94.9 contains requirements governing the importation of pork and pork products from regions where CSF exists. Section 94.10 contains importation requirements for swine from regions where CSF is considered to exist and designates the Animal and Plant Health Inspection Service (APHIS)-defined European CSF region as a single region of low-risk for CSF. Section 94.31 contains requirements governing the importation of pork, pork products, and swine from the APHIS-defined European CSF region. We consider CSF to exist in all regions of the world except those listed in accordance with paragraph (a) of § 94.9 ² as free of the disease.

² The list of regions comprising the APHIS-defined European CSF region and the lists of regions considered free of FMD, ASF, SVD, and rinderpest are located on the APHIS Web site at: http://www.aphis.usda.gov/wps/portal/aphis/ourfocus/importexport?1dmy&urile=wcm%3apath%3a%2Faphis_content_library%2Fsa_our_focus%2Fsa_animal_health%2Fsa_import_into_us%2Fct_animal_disease_status.

Section 94.11 of the regulations contains requirements governing the importation of meat of any ruminants or swine from regions that have been determined to be free of rinderpest and FMD, but that are subject to certain restrictions because of their proximity to or trading relationships with rinderpest- or FMD-affected regions. Such regions are listed in accordance with paragraph (a) of that section.

Section 94.12 of the regulations contains requirements governing the importation of pork or pork products from regions where SVD exists. We consider SVD to exist in all regions of the world except those listed in accordance with paragraph (a) of that section as free of SVD.

Section 94.13 contains importation requirements governing the importation of pork or pork products from regions that have been declared free of SVD as provided in § 94.12(a) but supplement their national pork supply by the importation of fresh (chilled or frozen) meat of animals from regions where SVD is considered to exist, or have a common border with such regions, or have trade practices that are less restrictive than are acceptable to the United States. Such regions are listed in accordance with paragraph (a) of § 94.13.

Section 94.14 states that no swine which are moved from or transit any region in which SVD is known to exist may be imported into the United States except wild swine imported in accordance with § 94.14(b).

Section 94.17 sets forth restrictions for importation of dry-cured pork products from regions where ASF, CSF, SVD, FMD, or rinderpest exists.

The regulations in 9 CFR part 92, § 92.2, contain requirements for requesting the recognition of the animal health status of a region (as well as for the approval of the export of a particular type of animal or animal product to the United States from a foreign region). If, after review and evaluation of the information submitted in support of the request, APHIS believes the request can be safely granted, APHIS will make its evaluation available for public comment through a document published in the Federal Register. Following the close of the comment period, APHIS will review all comments received and will make a final determination regarding the request that will be detailed in another document published in the Federal Register.

Under the current regulations, Malta is considered to be a region affected with CSF, SVD, ASF, FMD, and rinderpest. As such, APHIS restricts the importation of susceptible species and products derived from susceptible species from Malta.

In July 2006, the Government of the Republic of Malta requested that APHIS evaluate its CSF, SVD, ASF, FMD, and rinderpest status. In response to this request, we conducted a qualitative risk evaluation to evaluate Malta with respect to these diseases. This evaluation included site visits to farms and processing facilities in Malta, as well as examinations of Malta's capabilities with respect to veterinary control and oversight, disease history and vaccination, livestock demographics and traceability, epidemiological separation from potential sources of infection, disease surveillance, diagnostic laboratory capabilities, and emergency preparedness and response. Malta also provided additional information requested by APHIS in order to complete the evaluation in 2008 and 2014.

Based on the results of our evaluation, APHIS recognizes Malta to be free of SVD, ASF, FMD, and rinderpest, and low risk for CSF. APHIS has also determined that the surveillance, prevention, and control measures implemented by the European Union (EU) and Malta, an EU Member State since 2004, are sufficient to minimize the likelihood of introducing CSF, SVD, ASF, FMD, and rinderpest into the United States via imports of species or products susceptible to these diseases. Additionally, our determinations support adding Malta to the Web-based list of regions comprising the APHIS-defined European CSF region, which APHIS considers to be low risk for CSF, and to the respective Web-based lists of regions APHIS considers free of SVD, ASF, FMD, and rinderpest. Accordingly, we consider the risk of infected live swine and ruminants, or commodities derived from these species, entering the United States from Malta under mitigated conditions and exposing U.S. livestock to disease to be very low.

Therefore, in accordance with § 92.2(e), we are announcing the availability of our risk evaluation of the CSF, SVD, ASF, FMD, and rinderpest status of Malta for public review and comment. We are also announcing the availability of an environmental assessment (EA) and a finding of no significant impact (FONSI) ³ which have been prepared in accordance with: (1) The National Environmental Policy Act of 1969 (NEPA), as amended (42 U.S.C. 4321 et seq.), (2) regulations of the Council on Environmental Quality for implementing the procedural provision of NEPA (40 CFR parts 1500-1508), (3) USDA regulations implementing NEPA (7 CFR part 1b), and (4) APHIS' NEPA Implementing Procedures (7 CFR part 372). The evaluation, EA, and FONSI may be viewed on the Regulations.gov Web site or in our reading room. (Instructions for accessing Regulations.gov and information on the location and hours of the reading room are provided under the heading ADDRESSES at the beginning of this notice.) The documents are also available by contacting the person listed under FOR FURTHER INFORMATION CONTACT.

³ The FONSI for Malta incorporates by reference an EA prepared for Slovakia that addresses the potential environmental impacts of CSF, FMD, SVD, and rinderpest for Slovakia and other EU Member States.

Information submitted in support of Malta's request is available by contacting the person listed under FOR FURTHER INFORMATION CONTACT.

After reviewing any comments we receive, we will announce our decision regarding the disease status of Malta under consideration with respect to CSF, SVD, ASF, FMD, and rinderpest and the import status of susceptible animals and products of such animals in a subsequent notice.

Authority: 7 U.S.C. 450, 7701-7772, 7781-7786, and 8301-8317; 21 U.S.C. 136 and 136a; 31 U.S.C. 9701; 7 CFR 2.22, 2.80, and 371.4.

Done in Washington, DC, this 9th day of May 2016.
Michael C. Gregoire,
Acting Administrator, Animal and Plant Health Inspection Service.

[FR Doc. 2016-11316 Filed 5-12-16; 8:45 am]

BILLING CODE 3410-34-P